NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 25, 2001. Once the appraisal of the records is completed,NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@ nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-01-2, 15 items, 12 temporary items). Working papers, including drafts and reference materials, relating to the preparation of plans and reports stemming from the Government Performance and Results Act. Also included are electronic copies of records created using electronic mail and word processing. Proposed for permanent retention are recordkeeping copies of strategic plans, annual performance plans, and annual performance reports.

2. Department of Agriculture, Forest Service (N1-95-01-1, 3 items, 3 temporary items). Records relating to agency Y2K activities, including risk assessments, the testing and modification of automated systems, briefings, and training. Electronic copies of documents created using electronic mail and word processing are included.

3. Department of the Army, Army-wide (N1-AU-01-17, 1 item, 1 temporary item). Master file of the Central Issue Facility System, an electronic information system containing information concerning the receipt, storage, issue, exchange, and turn-in of clothing and equipment at installations.

4. Department of the Army, Agency-wide (N1-AU-00-39, 2 items, 2 temporary items). Master file and outputs of the Hazardous Substance Management System, an electronic information system used to support and facilitate the tracking and reporting of hazardous materials at installations. The system includes such data as quantities of hazardous chemicals and information concerning their location, handling, storage, disposal, release, and transfer. Copies of reports generated by this system that pertain to the release of hazardous material are sent to the Environmental Protection Agency (EPA) and incorporated into an EPA system that was previously approved for permanent retention.

5. Department of Defense, Defense Logistics Agency (N1-361-01-2, 1 item, 1 temporary item). The Safety and Health Information Reporting System, an electronic information system consisting of employee exposure records used to produce an occupational safety and health log and summary. Included are reports on hazards, accident investigations, and surveys and inspections. Records are proposed for retention for 30 years, as required by 29 CFR 1910.

6. Department of Energy, Agency-wide (N1-434-01-2, 5 items, 5 temporary items). Records provided by manufacturers containing safety information concerning hazardous chemicals and records relating to the inventorying and integrity testing of sealed radioactive sources. Electronic copies of documents created using electronic mail and word processing are included. Recordkeeping copies of these files are proposed for a 75-year retention period.

7. Department of Energy, Agency-wide (N1-434-01-3, 8 items, 7 temporary items). Records relating to spent nuclear fuels. Included are records pertaining to such matters as safety at installations, air sampling, planning, project reviews, and transfers of nuclear material. Also included are electronic copies of documents created using electronic mail and word processing. Recordkeeping copies of files relating to offsite storage facilities and final repositories for spent nuclear fuels are proposed for permanent retention.

8. Department of Energy, Agency-wide (N1-434-01-4, 4 items, 4 temporary items). Records relating to identifying and avoiding conflicts of interest by employees and consultants involved in technology transfer activities. Included are such records as annual certifications, correspondence, evaluation forms, review and approval forms, and mitigation plans. Also included are electronic copies of documents created using electronic mail and word processing.

9. Department of Health and Human Services, National Institutes of Health (N1-443-00-4, 1 item, 1 temporary item). Records relating to agency advisory committees. Records consist of an electronically maintained directory that includes for each committee information concerning its organization, functions, and membership. This information is also available in paper records that were previously approved for permanent retention.

10. Department of Labor, Office of the Assistant Secretary for Policy (N1-174-01-1, 5 items, 5 temporary items). Records relating to surveys to assess customer satisfaction with the Department of Labor web site. Included are surveys completed on-line by the public, master files, electronic and paper outputs, and system documentation.

11. Environmental Protection Agency, Office of Prevention (N1-412-01-2, 3 items, 2 temporary items). Paper records that have been microfilmed relating to new chemical registrations under Section 5 of the Toxic Substances Control Act. Also included are electronic copies of documents created using electronic mail and word processing. Microfilm copies and paper records that have not been filmed, consisting of such documents as pre-manufacture notices, chemical submissions and supporting data, and test data documenting health and environmental effects are proposed for permanent retention.

Dated: May 2, 2001.
Michael J. Kurtz,
Assistant Archivist for Record Services—Washington, DC.

[FR Doc. 01-11863 Filed 5-10-01; 8:45 am]

BILLING CODE 7515-01-U